DEPARTMENT OF DEFENSE

Office of the Secretary

[Transmittal No. 22-52]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 22-52, Policy Justification, and Sensitivity of Technology.

Dated: August 1, 2024.
Aaron T. Siegel,
Alternate OSD Federal Register Liaison Officer, Department of Defense.

BILLING CODE 6001-FR-P

BILLING CODE 6001-FR-C

Transmittal No. 22-52

Notice of Proposed Issuance of Letter of Offer Pursuant to Section 36(b)(1) of the Arms Export Control Act, as amended

(i) Prospective Purchaser: Government of Kuwait

(ii) Total Estimated Value:

Major Defense Equipment * | $1.75 billion
Other | $1.25 billion
TOTAL | $3.00 billion

Funding Source: National Funds

(iii) Description and Quantity or Quantities of Articles or Services under Consideration for Purchase: Kuwait has requested to buy the National Advanced Surface-To-Air Missile System (NASAMS), Medium Range Air Defense System (MRADS) solution comprised of:

Major Defense Equipment (MDE):

Seven (7) AN/MPQ-64FI Sentinel Radars with Associated Support Equipment

Sixty-three (63) AIM-120C-8 Advanced Medium Range Air-to-Air Missiles (AMRAAM)

Sixty-three (63) AMRAAM-Extended Range (AMRAAM-ER) Missiles

Two (2) AIM-120-C-8 AMRAAM Guidance Sections

Sixty-three (63) AIM-9X Sidewinder Block II Tactical Missiles

Six (6) AIM-9X Block II Tactical Missile Guidance Units

Twelve (12) Multifunctional Information Distribution Systems—Low Volume Terminal (MIDS LVT) Block Upgrade 2

Twelve (12) MIDS LVT Cryptographic Modules (LCM)

Non-MDE:

Also included are Fire Distribution Centers (FDC); Canister Launcher Systems (CLS); Tactical Control Center (TCC) Systems; FDC Indoor Training Simulator; Radar Communication Nodes; MIDS LVT BU2 Link 16-capable radios; IPS-250X High Assurance internet Protocol Encryptions (HAIPE); KIV-77 Identification Friend-or-Foe (IFF) Crypto Applique to provide Mode 5 and Mode S capability (must be compatible with Model 5800 IFF); AN/PSN-13 Defense Advanced Global Positioning System (OPS) Receivers (DAGR) with Selective Availability Anti-Spoofing Module (SAASM); AN/PYQ-10 Simple Key Loaders (SKL), Code Loaders and Cable Sets to allow crypto keying capability for each IFF, OPS, and MIDS radio; AIM-120 control sections and containers; AMRAAM and AMRAAM-ER Captive Air Training Missiles (CATMs); weapon system support and support equipment; spare parts, consumables, accessories and repair/return support; classified software; classified and unclassified publications and technical documentation; studies and surveys; Maintenance Support Shelters, NASAMS U.S. Government and Contractor Technical Support; Technical Assistance Support; Software Integration Support; Construction/Facilities Requirements; communications equipment; tool kits; test equipment; range and test programs; support equipment; prime movers; wheeled vehicles and organizational equipment; spare and repair parts; generators; technical documentation; computer based training equipment; training simulators; spare parts; training; facility construction (radar berms, communication towers, ammunition storage, training facilities, and maintenance facilities); Infrastructure improvements; U.S. Government and contractor technical support; engineering and logistics support services; warranty services; Systems Integration and Checkout (SICO); field office support; and other related elements of logistics and program support.

(iv) Military Department: Army (KU-B-UYG); Air Force (KU-D-YAG); Navy (KU-P-ABP, KU-P-LDI); National Security Agency (KU-M-GAR)

(v) Prior Related Cases, if any: KU-P-ABI, KU-P-ABO, KU-D-YAC, KU-D-YAD

(vi) Sales Commission, Fee, etc., Paid, Offered, or Agreed to be Paid: None known at this time

(vii) Sensitivity of Technology Contained in the Defense Article or Defense Services Proposed to be Sold: See Attached Annex

(viii) Date Report Delivered to Congress: October 6, 2022

* As defined in Section 47(6) of the Arms Export Control Act.

POLICY JUSTIFICATION

Kuwait—National Advanced Surface-to-Air Missile System (NASAMS), Medium Range Air Defense System (MRADS)

The Government of Kuwait has requested to buy the National Advanced Surface-To-Air Missile System (NASAMS), Medium Range Air Defense System (MRADS) solution comprised of: seven (7) AN/MPQ-64FI Sentinel radars with associated support equipment; sixty-three (63) AIM-120C-8 Advanced Medium Range Air-to-Air Missiles (AMRAAM); sixty-three (63) AMRAAM-Extended Range (AMRAAM-ER) missiles; two (2) AIM-120-C-8 AMRAAM Guidance Sections; sixty-three (63) AIM-9X Sidewinder Block II tactical missiles; six (6) AIM-9X Block II tactical missile Guidance Units; twelve (12) Multifunctional Information Distribution Systems—Low Volume Terminal (MIDS LVT) Block Upgrade 2; and twelve (12) MIDS LVT Cryptographic Modules (LCM). Also included are Fire Distribution Centers (FDC); Canister Launcher Systems (CLS); Tactical Control Center (TCC) Systems; FDC Indoor Training Simulator; Radar Communication Nodes; MIDS LVT BU2 Link 16-capable radios; IPS-250X High Assurance internet Protocol Encryptions (HAIPE); KIV-77 Identification Friend-or-Foe (IFF) Crypto Applique to provide Mode 5 and Mode S capability (must be compatible with Model 5800 IFF); AN/PSN-13 Defense Advanced Global Positioning System (OPS) Receivers (DAGR) with Selective Availability Anti-Spoofing Module (SAASM); AN/PYQ-10 Simple Key Loaders (SKL), Code Loaders and Cable Sets to allow crypto keying capability for each IFF, OPS, and MIDS radio; AIM-120 control sections and containers; AMRAAM and AMRAAM-ER Captive Air Training Missiles (CATMs); weapon system support and support equipment; spare parts, consumables, accessories and repair/return support; classified software; classified and unclassified publications and technical documentation; studies and surveys; Maintenance Support Shelters, NASAMS U.S. Government and Contractor Technical Support; Technical Assistance Support; Software Integration Support; Construction/Facilities Requirements; communications equipment; tool kits; test equipment; range and test programs; support equipment; prime movers; wheeled vehicles and organizational equipment; spare and repair parts; generators; technical documentation; computer based training equipment; training simulators; spare parts; training; facility construction (radar berms, communication towers, ammunition storage, training facilities, and maintenance facilities); Infrastructure improvements; U.S. Government and contractor technical support; engineering and logistics support services; warranty services; Systems Integration and Checkout (SICO); field office support; and other related elements of logistics and program support. The total estimated cost is $3 billion.

This proposed sale will support the foreign policy and national security objectives of the United States by helping to improve the security of a Major Non-NATO ally that has been an important force for political stability and economic progress in the Middle East.

The proposed sale will improve Kuwait's capability to meet current and future threats by enhancing the ability to defend itself against regional malign actors and improve interoperability with systems operated by U.S. forces and other Gulf countries. Kuwait's continued investment in its defensive capabilities is crucial to protecting its borders, energy infrastructure, and its residents, including over 4,000 U.S. citizens and military personnel living and working in the country. Kuwait will have no difficulty absorbing this capability into its armed forces.

The proposed sale of this equipment and support will not alter the basic military balance in the region.

The principal contractor will be Raytheon Missiles and Defense, Tucson, AZ. The purchaser typically requests offsets. Any offset agreement will be defined in negotiations between the purchaser and the contractor.

Implementation of this proposed sale will require the assignment of three (3) U.S. Government and five (5) contractor representatives to Kuwait to support delivery of the NASAMS and provide support and equipment familiarization. Six (6) contractors would be deployed to Kuwait for approximately three (3) years for follow-on support of equipment.

There will be no adverse impact on U.S. defense readiness as a result of this proposed sale.

Transmittal No. 22-52

Notice of Proposed Issuance of Letter of Offer Pursuant to Section 36(b)(1) of the Arms Export Control Act

Annex

Item No. vii

(vii) Sensitivity of Technology:

1. National Advanced Surface-to-Air Missile System (NASAMS) Medium Range Air Defense System (MRADS) Description. This is a System of Systems (SOS) consisting of the Sentinel Radar, the Fire Distribution Center (FDC), the AIM-120 Advanced Medium Range Air-to-Air Missile (AMRAAM), the AIM-120 Extended Range Missile (AMRAAM-ER), and the AIM-9X Missile. The NASAMS MRADS is designed for mid-range air defense and can be deployed to engage fixed wing and rotary wing aircraft, cruise missiles, and unmanned aerial vehicles (UAVs). The NASAMS MRADS is not a Program of Record (POR) for the U.S. Department of Defense, but the SOS architecture does consist of several PORs: the U.S. Army's AN/MPQ-64 Sentinel radar, the U.S. Air Force's AIM-120 AMRAAM missile, and the U.S. Navy's AIM-9X Missile. The NASAMS is comprised of both U.S.- and Norwegian-manufactured components. Norwegian components will be procured by the Raytheon Company. Norwegian involvement will be managed by Raytheon using export authorizations received from the U.S. Department of State.

2. NASAMS Fire Unit (FU). Consists of one fire distribution center (FDC), one AN/MPQ-64F1 surveillance, acquisition, and tracking radar, 3 truck-mounted Canister Launchers (LCHR), and the High Mobility Launcher (HML) with 6 AMRAAM missiles each.

3. Fire Distribution Center (FDC). The command & control entity, FDC, is the major operator interface in NASAMS. It provides all command-and-control functionality necessary to effectively conduct Air Defense missions; both in a stand-alone (autonomous) configuration as well as in a netted configuration integrated to other units. The FDC interfaces and controls the MPQ-64F1 Sentinel radar and the Canister and High Mobility-Launchers. The FDC also interfaces (voice and data) to the national command and control structure.

4. AN/MPQ-64F1 Sentinel Radar. This is the organic mobile Air Defense acquisition and tracking sensor for the United States Army. Sentinel provides persistent air surveillance and fire control quality data through command-and-control systems to defeat Unmanned Aerial System (UAS), cruise missiles, and fixed-wind and rotary-wing aircraft threats.

5. AIM-120C-8 Advanced Medium Range Air-to-Air Missile (AMRAAM). This is a supersonic, air-launched, aerial intercept, guided missile featuring digital technology and micro-miniature solid-state electronics. AMRAAM capabilities include look-down/shoot-down, multiple launches against multiple targets, resistance to electronic countermeasures, and interception of high- and low-flying and maneuvering targets. State-of-the-art technology is used in the missile to provide it with beyond-visual-range capability. Although designed as an air-to-air missile, the AMRAAM can also be employed in a surface-launch mode when integrated on systems such as NASAMS.

• The AIM-120C-8 AMRAAM-Extended Range (ER) has the same capability as the AMRAAM, but with a larger rocket motor and control section to allow it to travel further.

• The potential sale will include Captive Air Training Missiles (CATM) and AMRAAM Guidance Sections.

6. Canister Launcher (CLS). Purpose is to transport, aim, and fire the U.S. Air Force AMRAAM, AMRAAM-ER, and the US Navy AIM-9X Sidewinder missiles. Under the remote control of the Fire Distribution Center (FDC), the launcher permits rapid launching of one or more missiles against single or multiple targets and can support 6 engagements simultaneously. The launcher provides 360-degree, all weather, day and night, missile launch capability.

7. AIM 9X Sidewinder Block II Tactical Missiles. The missile includes a high off-boresight seeker, enhanced countermeasure rejection capability, low drag/high angle of attack airframe and the ability to integrate the Helmet Mounted Cueing System.

8. Multifunction Information Distribution System—Low Volume Terminal Block Upgrade 2 (MIDS LVT BU2). The MIDS LVT BU2 is a secure data and voice communication network using the Link-16 architecture; the MIDS LVT Cryptographic Modules (LCM) are the Communications Security (COMSEC) portion of the MIDS LVT BU2 system. The system provides enhanced situational awareness, positive identification of participants within the network, and secure voice capability. The system provides the critical ground link for simultaneous coordination of air, land, and maritime forces.

9. The highest level of classification of defense articles, components, and services included in this potential sale is SECRET.

10. If a technologically advanced adversary were to obtain knowledge of the specific hardware and software elements, the information could be used to develop countermeasures that might reduce weapon system effectiveness or be used in the development of a system with similar or advanced capabilities.

11. A determination has been made that the Government of Kuwait can provide substantially the same degree of protection for the sensitive technology being released as the U.S. Government. This sale is necessary in furtherance of the U.S. foreign policy and national security objectives outlined in the Policy Justification.

12. All defense articles and services listed in this transmittal have been authorized for release and export to the Government of Kuwait.

[FR Doc. 2024-17367 Filed 8-5-24; 8:45 am]

BILLING CODE 6001-FR-P